DEPARTMENT OF THE TREASURY

Financial Crimes Enforcement Network

Proposed Collection; Comment Request; Bank Secrecy Act Unified Currency Transaction Report Proposed Data Fields

AGENCY: Financial Crimes Enforcement Network (“FinCEN”), Treasury.

ACTION: Notice and request for comments.

SUMMARY: FinCEN is continuing the design of a new Bank Secrecy Act (BSA) database (the Database) and invites comment on the list of proposed data fields within the Database that will be required to support unified Currency Transaction Report (CTR) filings by financial institutions required to file such reports under the BSA. This notice does not propose any new regulatory requirements or changes to the requirements related to currency transaction reporting, but rather seeks input on technical matters as FinCEN transitions from a system originally designed for collecting paper forms to a modernized IT environment for electronic reporting. The list of proposed data fields for the unified “Currency Transaction Report (CTR)” appears at the end of this notice. The proposed data fields reflect the filing requirement for all filers of CTRs under the BSA. The CTR will be an e-filed dynamic and interactive report used by all BSA filing institutions to report designated currency transactions to the Department of the Treasury. This request for comments covers 31 CFR 103.22(b)(1) and (2). This request for comments is being made pursuant to the Paperwork Reduction Act of 1995, Public Law 104-13, 44 U.S.C. 3506(c)(2)(A).

DATES: Written comments are welcome and must be received on or before March 28, 2011.

ADDRESSES: Written comments should be submitted to: Regulatory Policy and Programs Division, Financial Crimes Enforcement Network, Department of the Treasury, P.O. Box 39, Vienna, Virginia 22183, “Attention: PRA Comments—CTR Database.” Comments also may be submitted by electronic mail to the following Internet address: regcomments@fincen.treas.gov, with the caption, “Attention: CTR Database” in the body of the text.

Inspection of comments. Comments may be inspected, between 10 a.m. and 4 p.m., in the FinCEN reading room in Vienna, VA. Persons wishing to inspect the comments submitted must request an appointment with the Disclosure Officer by telephoning (703) 905-5034 (Not a toll free call).

FOR FURTHER INFORMATION CONTACT: The FinCEN Regulatory Helpline at 800-949-2732, select option 7.

SUPPLEMENTARY INFORMATION: Title: BSA Unified Currency Transaction Report by Financial Institutions (See 31 CFR 103.22(b)(1)(2).

OMB Number: 1506-XXXX.¹

¹ The CTR reporting requirements are currently covered under the following OMB Control numbers: 1506-0004 (Financial Institutions other than Casinos), and 1506-0005 (Casinos and Card Clubs).

Form Number: FinCEN Form 112.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities, to protect against international terrorism, and to implement counter-money laundering programs and compliance procedures.² Regulations implementing Title II of the BSA appear at 31 CFR Part 103. The authority of the Secretary to administer the BSA has been delegated to the Director of FinCEN.

² Language expanding the scope of the BSA to intelligence or counter-intelligence activities to protect against international terrorism was added by Section 358 of the Uniting and Strengthening America by Providing Appropriate Tools Required to Intercept and Obstruct Terrorism Act of 2001 (the “USA PATRIOT Act”), Public Law 107-56.

The Secretary of the Treasury was granted authority in 1970, with the enactment of 31 U.S.C. 5313, to require financial institutions to report currency transactions exceeding $10,000.

The information collected on the “report” is required to be provided pursuant to 31 U.S.C. 5313 as implemented by FinCEN regulations found at 31 CFR 103.22(b)(1) and (2). The information collected under this requirement is made available to appropriate agencies and organizations as disclosed in FinCEN's Privacy Act System of Records Notice relating to BSA Reports.³

³ Department of the Treasury bureaus such as FinCEN renew their System of Records Notices every three years unless there is cause to amend them more frequently. FinCEN's System of Records Notice for BSA Reports System was most recently published at 73 FR 42405, 42410 (July 21, 2008).

Current Action: FinCEN is in the process of designing the Database to accept modernized electronic BSA reporting. The Database will accept XML based dynamic, state-of-the-art, reports. Batch and computer-to-computer filing processes will remain unchanged although the file format will change to match the Database. Discrete filings will be based on Adobe LiveCycle Designer ES dynamic forms. All filings (discrete, batch, and computer-to-computer) will be accessed through the BSA E-Filing system ⁴ using current registration and log-in procedures. During log-in to the discrete filing option, filers will be prompted through a series of questions ⁵ (See CTR Comprehensive Summary of Proposed Data Fields, item 1 and Part III, at the end of this notice) to provide information that will identify the type of financial institution filing the CTR (depository institution, MSB, broker/dealer, casino, etc.). After log-in, the financial institution filing a U-CTR through the discrete function will answer another set of questions consisting of a subset of the data field appropriate to the filer's specific type of filing institution. Batch and computer-to-computer filers will file reports based on an electronic file specification that will be finalized after reviewing public comments received in response to this notice.

⁴ BSA E-Filing is a free service provided by FinCEN. More information on the filing methods may be accessed at http://bsaefiling.fincen.treas.gov/main.html.

⁵ A series of predetermined questions will be used to establish the type of institution and filing in much the same manner as used in widely accepted income tax filing software.

Dynamic forms are documents with a hierarchical structure that can be converted into XML. This hierarchical structure can include structure from XML Schema and example XML files. Dynamic forms can be saved as PDF files or XDP files. XDP files are used by the Adobe LiveCycle Form Server to render files to PDF or HTML format as needed. The report for the Database will be designed to be both dynamic (changing layout in response to data propagated from other sources) and interactive (capable of accepting user input). Currently, e-filed discrete forms are based on Designer 8.2.1. The dynamic features of these PDF forms can be manipulated by the Adobe Form Server during the rendering process or by the Adobe Acrobat/Acrobat Reader ⁶ client during viewing. Dynamic forms allow JavaScript to be embedded, thereby enabling programmatic changes to the form layout as well as communication with various data sources (SOAP, OLEDB). Besides JavaScript, Adobe dynamic forms include a proprietary scripting language called FormCalc, designed to be a simple language for users familiar with spreadsheet calculations.

⁶ Adobe Acrobat Reader is free and can be downloaded from the Adobe Web site http://www.adobe.com/reader.

The filing of the dynamic report will begin with the filer identifying the type of filing ⁷ followed by answering several questions about the filer's institution such as type (depository institution, broker-dealer, MSB, etc.) and name of the institution, the institution's assigned identification number, i.e., RSSD/EIN/CRD/IARD/NFA/SEC, and address.⁸ Responses to these questions will enable or “auto populate” certain data elements of the report with information obtained from third-party data sources, completing most of the filing institution's identifying information. The institution will then complete specific information on the person involved in the transaction and the nature of the transaction. A breakdown of the transaction(s) is provided in Part II.⁹

⁷ See item 1 of the BSA-U-CTR Comprehensive Summary of Proposed Data Fields at the end of this notice.

⁸ See Part III of the BSA-U-CTR Comprehensive Summary of Proposed Data Fields at the end of this notice.

⁹ See Part II of the BSA-U-CTR Comprehensive Summary of Proposed Data Fields at the end of this notice.

General Review of the CTR Comprehensive Summary of Proposed Data Fields.¹⁰

¹⁰ The complete list of proposed data fields appears at the end of this notice.

Note: The following general comments apply to all filings: Discrete, batch, and computer-to-computer. Critical fields are marked with an asterisk (*) and must be completed or the “unknown (unk)” box must be checked.

• All filing institutions will complete item 1 “Type of Filing” for each report.

• All filing institutions will complete Part I “Person Involved in Transaction” for each beneficiary and/or transactor. Part I may be repeated as many times as necessary to cover all transactions.

• All filing institutions must complete Part II. Note that Part II items cover all filers. Filers are only required to complete those items that pertain to the report being made that apply to their institution. If a filer has additional information that would add value to the report, a “select all” feature will be available. Generally there will be one Part II per report.

• A Part III “Financial Institution Information Where Transaction(s) Takes Place” is required for all reports. Part III may be repeated as many times as necessary to report an unlimited number of financial institutions and/or branches if necessary.

Type of Review: Initial review of the proposed data elements of the Database in support of the electronic filing of a dynamic CTR.

Affected public: Business or other for-profit and not-for-profit financial institutions.

Frequency: As required.

Estimated Reporting Burden: Average of 20 minutes per report and 20 minutes recordkeeping per filing. (The reporting burden of the regulations 31 CFR 103.22(b)(1) and (2) is reflected in the burden for the form.)

Estimated Recordkeeping and Reporting Burden: 40 minutes.

Estimated number of respondents: 82,255 (Includes depository institutions, broker-dealers, future commission merchants, introducing brokers in commodities, money services businesses, and mutual funds).

Estimated Total Annual Responses: 14,111,600.¹¹

¹¹ Numbers are based on actual 2009 filings as reported to the IRS Enterprise Computing Center-Detroit (EEC-D) as of 12/31/2009. This number reflects the total number of filings for both the CTR and CTRC.

Estimated Total Annual Reporting and Recordkeeping Burden: 9,407,733 hours.

An agency may not conduct or sponsor, and a person is not required to respond to, a collection of information unless the collection of information displays a valid OMB control number. Records required to be retained under the BSA must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: January 19, 2011.
James H. Freis, Jr.,
Director, Financial Crimes Enforcement Network.

CTR Comprehensive Summary of Proposed Data Fields 11/23/10

Note: Critical fields are identified with the * symbol in front of the data element number.

1. Type of filing (check box that applies):

a. Initial report

b. Correct/amend prior report

c. FinCEN directed Backfiling

d. Prior report DCN (electronic view only if item 1b is checked)

Part I Person Involved in Transaction

2. a. Beneficiary and Transactor

b. Beneficiary

c. Transactor

d. Courier service (private)

3. Multiple Transactions

* 4. Individual's last name or entity's legal name

a. (Check if) if entity

b. (Check if) Unknown

* 5. First name

a. (Check if) Unknown

6. Middle initial (middle name for electronic filers)

Suffix (Electronic View Only)

7. Gender

a. (Check if) Male

b. (Check if) Female

c. (Check if) Unknown

8. Alternate name, e.g., AKA—Individual or DBA—entity

9. Occupation or type of business

a. NAICS Code

* 10. Address (number, street, and apt. or suite no.)

a. (Check if) Unknown

* 11. City

a. (Check if) Unknown

* 12. State

a. (Check if) Unknown

State should be derived through third party data as enhanced data if not provided and Country is US, Mexico or Canada and ZIP/Postal Code is provided.

* 13. ZIP/Postal Code

a. (Check if) Unknown

ZIP + 4 should be derived through third party data as enhanced data if not provided or verified through third party data if provided.

New Data Element of County—Derived through third party data as enhanced data.

New Data Elements for GEO Coding—Derived through third party data as enhanced data.

New Data Element of HIFCA code—Derived through third party data as enhanced data.

New Data Element of HIDTA code—Derived through third party data as enhanced data.

* 14. Country Code

a. (Check if) Unknown

* 15. TIN (enter number in space provided and check appropriate type below)

a. (Check if) Unknown

16. TIN type *(if 15 is completed)

a. EIN

b. SSN-ITIN

c. Foreign

* 17. Date of birth

a. (Check if) Unknown

18. Contact phone number (if available)

18a. Ext. (if any)

19. E-mail address (if available)

*20. Form of identification used to verify identity:

a. (Check if) Unknown

b. (Check if) Driver's license/State I.D.

c. (Check if) Passport

d. (Check if) Alien registration

e. Issuing State

f. Country

g. Number

z. (Check if) Other (and specify type in space provided)

21. Cash in amount for individual or entity listed in item 4

a. Acct. number(s) included in item 21 (paper filers have space to enter 2 account numbers—items 21a and 21b; electronic filers can enter multiple account numbers)

22. Cash out amount for individual or entity listed in item 4

a. Acct. number(s) included in item 22 (paper filers have space to enter 2 account numbers—items 22a and 22b; electronic filers can enter multiple account numbers)

Part II Amount and Type of Transaction(s)

* 23. Date of transaction

24a. (Check if) Armored car (Fl contract)

b. (Check if) ATM

c. (Check if) Mail Deposit or Shipment

d. (Check if) Night Deposit

e. (Check if) Aggregated transactions

* 25. Total cash in

a. Deposit(s)

b. Payment(s)

c. Currency received for funds transfer(s) out

d. Purchase of negotiable instrument(s)

e. Currency exchange(s)

f. Currency to prepaid access

g. Purchase(s) of casino chips, tokens, and other gaming instruments

h. Currency wager(s) including money plays

i. Bills inserted into gaming devices

z. Other (specify)

26. Foreign cash in

a. Foreign country (two letter code) (paper filers have space to enter one foreign cash in amount and country code—items 26 and 26a; electronic filers can enter multiple foreign cash in amount and country code sets)

* 27. Total cash out

a. Withdrawal(s)

b. Advance(s) on credit (including markers)

c. Currency paid from funds transfer(s) in

d. Negotiable instrument(s) cashed

e. Currency exchange(s)

f. Currency from prepaid access

g. Redemption(s) of casino chips, tokens, TITO tickets, and other gaming instruments

h. Payment(s) on wager(s) (including race book and OTB or sports pool

i. Travel and complimentary expenses and gaming incentives

j. Payment for tournament, contest or other promotions

z. Other (specify)

28. Foreign cash out

a. Foreign country (two letter code) (paper filers have space to enter one foreign cash out amount and country code—items 28 and 28a; electronic filers can enter multiple foreign cash out amount and country code sets)

Part III Financial Institution Where Transaction(s) Takes Place

* 29. Primary Federal regulator (this is a dropdown box with the following selections):

CFTC

Federal Reserve

FDIC

FinCEN (Including where IRS or another FinCEN delegate examines for compliance)

NCUA

OCC

OTS

SEC

Not Applicable

* 30. Legal name of financial institution

31. Alternate name, e.g., trade name, DBA

* 32. EIN

* 33. Address (number, street, and apt. or suite no.)

* 34. City

* 35. State

State should be derived through third party data as enhanced data if not provided and Country is US, Mexico or Canada and ZIP/Postal Code is provided.

* 36. ZIP/Postal code

ZIP + 4 should be derived through third party data as enhanced data if not provided or verified through third party data if provided.

New Data Element of County—Derived through third party data as enhanced data.

New Data Elements for GEO Coding—Derived through third party data as enhanced data.

New Data Element of HIFCA code—Derived through third party data as enhanced data.

New Data Element of HIDTA code—Derived through third party data as enhanced data.

Derive Data Element of Country code = “US”.

* 37. Type of financial Institution (Check only one)

a. (Check if) Casino/Card club

b. (Check if) Depository institution

c. (Check if) MSB

d. (Check if) Securities/Futures

z. (Check if) Other (and specify type in space provided)

38. If 37a is checked, indicate type of gaming Institution (Check only one)

a. (Check if) State licensed casino

b. (Check if) Tribal authorized casino

c. (Check if) Card club

z. (Check if) Other (and specify type in space provided)

39. Filing institution identification number (Check one box to indicate type)

a. CRD number

b. IARD number

c. NFA number

d. SEC ID number

e. RSSD number

f. Identification number

40. Designated office e-mail address

* 41. Contact office

* 42. Phone number

a. Ext.

43. Date filed

[FR Doc. 2011-1587 Filed 1-25-11; 8:45 am]

BILLING CODE 4810-02-P